DEPARTMENT OF DEFENSE

Department of Army

Withdrawal of Mandatory Requirement Provision of Warehouse Performance Bond by Department of Defense Personal Property Storage Transportation Service Providers (TSP) Contractors

AGENCY: Department of Army, DOD.

ACTION: Notice.

SUMMARY: The Military Surface Deployment and Distribution Command (SDDC) as the Program Manager for DOD's Personal Property Non-Temporary Storage Program is withdrawing the proposed Warehouse Performance Bond Requirement Proposal for Non-Temporary Storage Transportation Service Providers. In light of the information and comments provided and considering the other major on-going initiatives such as implementation of Full Replacement Value liability, Phase III of the Families First initiative, etc. within the DOD Personal Property Program, SDDC has decided to withdraw the proposed Warehouse Performance Bond Requirement Proposal.

DATES: Effective Date: October 1, 2007.

ADDRESSES: Requests for additional information may be sent to Centralrsmo@sddc.army.mil; or by courier to: Department of Army, HQ, SDDC Central RSMO, ATTN: SDDC-PPP-PA-C, P.O. Box 19225, Topeka, KS 66619-0225.

Regulation Flexibility Act

This action is not considered rulemaking within the meaning of Regulatory Flexibility Act, 5 U.S.C. 601-612.

Paperwork Reduction Act

The Paperwork Reduction Act, 44 U.S.C. 3051 et seq., does not apply because no information collection or recordkeeping requirements are imposed on contractors, offerors alternatively, members of the public.

James N. Johnson,
Chief, Operations & Analysis Branch.

[FR Doc. 07-5277 Filed 10-24-07; 8:45 am]

BILLING CODE 3710-08-M